DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Annual Trade Survey.

Form Number(s): SA-42, SA-42A, SA-42(MSBO), SA-42A(MSBO), SA-42(AGBR), SA-42A(AGBR).

Agency Approval Number: 0607-0195.

Type of Request: Revision of a currently approved collection.

Burden: 3,937 hours.

Number of Respondents: 8,490.

Avg Hours Per Response: 28 minutes.

Needs and Uses: The U.S. Census Bureau is requesting a revision to the current Office Of Management and Budget (OMB) clearance for the Annual Trade Survey (ATS). It currently covers wholesale distributor establishments, manufacturers' sales branches and offices (MSBOs) and will be expanded to include agents, brokers and electronic markets (AGBR). The survey is an official source of annual sales, inventory, and value added measures for wholesale establishments located in the United States. The ATS provides annual data needed to improve the accuracy of the sales estimates and inventory adjustments in the Gross Domestic Product (GDP) and for benchmarking results of the Monthly Wholesale Trade Survey (MWTS) [OMB No. 0607-0190]. Data on agents, brokers, and electronic markets will address a longstanding Bureau of Economic Analysis (BEA) priority to obtain annual measures of sales, commissions, and value of sales arranged for others, e-commerce sales, and operating expenses to improve BEA's estimates, a key component of the GDP estimate. The estimates compiled from this survey provide valuable information for economic policy decisions by the government and will be widely used by private businesses, trade organizations, professional associations, and other business research and analysis organizations.

This request is for the clearance of four existing report forms, the SA-42 and SA-42A, the SA-42 (MSBO) and SA-42A (MSBO), and two new forms, SA-42 (AGBR) and SA-42A (AGBR), which will be used to collect data for AGBRs. The survey report forms are used to collect total sales, e-commerce sales, year-end inventory, and inventory valuation methods with the exception of AGBRs. In addition purchases are collected for wholesale distributors and operating expenses for MSBOs and AGBRs. The forms request similar but unique sets of data items to accommodate both wholesale distributors, manufacturers sales branches and offices and agents, brokers and electronic markets as well as both large and small firms. This survey will use the North American Industry Classification System (NAICS).

The Census Bureau tabulates the collected data to produce estimates of annual sales, year-end inventories and inventory valuation methods, and inventory/sales ratios. In addition, estimates of purchases and gross margins will be produced for wholesale distributors and estimates of operating expenses will be produced for MSBOs and AGBRs.

BEA uses information from the ATS in the National Income and Product Accounts and the input-output (I-O) accounts. Data on inventories, purchases, and operating expenses are used to prepare estimates of the change in private inventories components of GDP. Data on sales are used to prepare inventory-sales ratios. Data on inventories, sales, purchases, and operating expenses are used to derive industry output for the I-O accounts and for the annual GDP by industry estimates. Data on sales taxes, which are collected on this survey quinquennially, are also used to prepare estimates of GDP by industry and to derive industry output for the I-O accounts. These estimates will have a high BEA priority because of their timeliness and because of the adjustments made to prior period data based on final book figures.

The Census Bureau also uses wholesale distributor annual data as a benchmark for the sales and inventory estimates from the MWTS. Other government agencies and businesses will use the published estimates to gauge the current trends of the economy. The Bureau of Labor Statistics uses the data as input to their Producer Price Indexes and in developing productivity measurements.

Affected Public: Business or other for-profit.

Frequency: Annually.

Respondent's Obligation: Mandatory.

Legal Authority: Title 13 U.S.C., Sections 182, 224, and 225.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: July 25, 2005.
Madeleine Clayton,
Management Analyst, Office of the Chief Information Officer.

[FR Doc. 05-14988 Filed 7-28-05; 8:45 am]

BILLING CODE 3510-07-P